DEPARTMENT OF THE INTERIOR

Fish and Wildlife Service

[FW-HQ-WSFR-2015-N087; FVWF941009000007B-XXX-FF09W11000; FVWF51100900000-XXX-FF09W11000]

Proposed Information Collection; Wildlife and Sport Fish Grants and Cooperative Agreements

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on September 30, 2015. We may not conduct or sponsor and a person is not required to respond to a collection of information unless it displays a currently valid OMB control number.

DATES: To ensure that we are able to consider your comments on this IC, we must receive them by July 10, 2015.

ADDRESSES: Send your comments on this IC to the Information Collection Clearance Officer, U.S. Fish and Wildlife Service, MS BPHC, 5275 Leesburg Pike, Falls Church, VA 22041-3803 (mail); or hope_grey@fws.gov (email). Please include “1018-0109” in the subject line of your comments.

FOR FURTHER INFORMATION CONTACT: To request additional information about this IC, contact Hope Grey at hope_grey@fws.gov (email) or 703-358-2482 (telephone).

SUPPLEMENTARY INFORMATION:

I. Abstract

The Wildlife and Sport Fish Restoration Program (WSFR), U.S. Fish and Wildlife Service, administers the following financial assistance programs in whole or in part. We award most financial assistance as grants, but cooperative agreements are possible if the Federal Government will be substantially involved in carrying out the project. You can find a description of most programs in the Catalog of Federal Domestic Assistance (CFDA).

Program | CFDA No. | Authority | Implementing regulations
Clean Vessel Act | 15.616 | 16 U.S.C. 777g(c) | 50 CFR 85.
Coastal Wetlands Planning, Protection, and Restoration Act | 15.614 | 16 U.S.C. 3951-3956 | 50 CFR 84.
Cooperative Endangered Species Conservation Fund | 15.615 | 16 U.S.C. 1531 et seq | 50 CFR 81.
Everglades Restoration * | None | Public Law 104-127; 16 U.S.C. 460 l-4 thru l-11 | None.
Fish and Wildlife Coordination and Assistance Programs (Generic) | 15.664 |  | None.
Fisheries Restoration and Irrigation Mitigation * | None | 16 U.S.C. 777 | None.
Highlands Conservation Program | 15.667 |  | None.
Hunter Education and Safety | 15.626 | 16 U.S.C. 669h-1 | 50 CFR 80.
Landowner Incentive * | 15.633 | Public Law 110-5 | None.
Multistate Conservation Grants | 15.628 | 16 U.S.C. 669h-2; 16 U.S.C. 777m | None.
National Outreach and Communication | 15.653 | 16 U.S.C. 777g(d) | None.
Research Grants (Generic) | 15.650 | 16 U.S.C. 753a; 16 U.S.C. 460 (l-4 thru l-11); 16 U.S.C. 1531-1543 | None.
Service Training and Technical Assistance (Generic Training) | 15.649 | 16 U.S.C. 661 and 16 U.S.C. 742f | None.
Sport Fish Restoration | 15.605 | 16 U.S.C. 777-777n (except 777e-1) | 50 CFR 80.
Sport Fishing and Boating Safety Act (Boating Infrastructure Grants) | 15.622 | 16 U.S.C. 777g and g-1 | 50 CFR 86.
State Wildlife Grants | 15.634 | Public Law 110-329 | None.
Tribal Landowner Incentive * | 15.638 | Public Law 110-5 | None.
Tribal Wildlife Grants | 15.639 | Public Law 110-329 | None.
Wildlife Conservation and Restoration * | 15.625 | 16 U.S.C. 669b and 669c | None.
Wildlife Restoration | 15.611 | 16 U.S.C. 669-669k | 50 CFR 80.
* Program has open grants, but no new funding.

Authorities and implementing regulations establish the purposes of the grant programs and the types of projects to be funded. Some list eligibility criteria as well as activities ineligible for funding. The authorities and implementing regulations for the competitive programs establish preferences or ranking factors for the selection of projects to be funded. These legal requirements make it essential for an awarding agency to have certain information so that it funds only eligible projects, and, in the case of competitive programs, to select those projects that will result in the greatest return on the Federal investment.

Some grants are mandatory and receive funds according to a formula set by law or policy. Other grants are discretionary, and we award them based on a competitive process. Mandatory grant recipients must give us specific, detailed project information during the application process so that we can ensure that projects are eligible for the mandatory funding, are substantial in character and design, and comply with all applicable Federal laws. All grantees must submit financial and performance reports that contain information necessary for us to track costs and accomplishments.

In February 2014, OMB approved our request to use a new electronic system (Wildlife Tracking and Reporting Actions for the Conservation of Species (Wildlife TRACS)) to collect application and performance reporting information on our grant programs. OMB assigned OMB Control No. 1018-0156, which expires February 28, 2017. Wildlife TRACS allows us to take advantage of newer technology and gives applicants direct access to enter project information that can be used to submit an application through http://www.grants.gov. Grantees can also report performance accomplishments in Wildlife TRACS. We are including the use of Wildlife TRACS and the collection of additional information in this revision to OMB Control No. 1018-0109. If OMB approves this revision, we will discontinue OMB Control No. 1018-0156.

To apply for financial assistance funds, you must submit an application that describes in substantial detail project locations, benefits, funding, and other characteristics. Materials to assist applicants in formulating project proposals are available on Grants.gov. We use the application to determine:

• Eligibility.

• Scale of resource values or relative worth of the project.

• If associated costs are reasonable and allowable.

• Potential effect of the project on environmental and cultural resources.

• How well the proposed project will meet the purposes of the program's establishing legislation.

• If the proposed project is substantial in character and design.

• For competitive programs, how the proposed project addresses ranking criteria.

Persons or entities receiving grants must submit periodic performance reports that contain information necessary for us to track costs and accomplishments.

In addition to the information currently collected under OMB Control No. 1018-0109, we will collect the following additional information currently approved under OMB Control No. 1018-0156:

For mandatory grant program applications and amendments:

• Geospatial entry of project location.

• Project status (active, completed, etc.).

• Project leader contact information.

• Partner information.

• Objectives, including output measures and desired future values.

• Plan information (for projects connected to plans).

For all WSFR grant program projects and reports:

• The information above, as applicable to the approved grant.

• Public description.

• Action status (active, completed, etc.).

• Summary trend information, as applicable.

• Estimated costs, by action. (non-auditable).

• Effectiveness measures (initially for State Wildlife Grants).

For real property acquisition projects, information related to:

• Transactions, such as dates, method of transfer, title holder, and seller.

• Identifiers, such as State and Federal Record ID, parcel number, and property name.

• Values such as appraised value, purchase price and other cost information, and acres or acre feet.

• Encumbrances.

• Partners.

II. Data

OMB Control Number: 1018-0109.

Title: Wildlife and Sport Fish Grants and Cooperative Agreements, 50 CFR 80, 81, 84, 85, and 86.

Service Form Number: None.

Type of Request: Revision of a currently approved collection.

Description of Respondents: States; the Commonwealths of Puerto Rico and the Northern Mariana Islands; the District of Columbia; the territories of Guam, U.S. Virgin Islands, and American Samoa; federally recognized tribal governments; institutions of higher education; and nongovernmental organizations.

Respondent's Obligation: Required to obtain or retain a benefit.

Frequency of Collection: We require applications annually for new grants. We require amendments on occasion when key elements of a project change. We require quarterly and final performance reports in the National Outreach and Communication Program and annual and final performance reports in the other programs. We may require more frequent reports under the conditions stated at 2 CFR 200.205 and 2 CFR 200.207.

Activity | Number of respondents | Number of responses | Completion time per response | Total annual burden hours
Initial Application (project narrative) | 200 | 2,500 | 44 | 110,000
Revision of Award Terms (Amendment) | 150 | 1,500 | 6 | 9,000
Performance Reports | 200 | 3,500 | 12 | 42,000
Totals | 550 | 7,500 |  | 161,000

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 5, 2015.
Tina A. Campbell,
Chief, Division of Policy, Performance, and Management Programs, U.S. Fish and Wildlife Service.

[FR Doc. 2015-11259 Filed 5-8-15; 8:45 am]

BILLING CODE 4310-55-P